DEPARTMENT OF AGRICULTURE

Food Safety and Inspection Service

9 CFR Part 319

[Docket No. 01-018E]

Definitions and Standards of Identity or Composition: Elimination of the Pizza Standard

AGENCY: Food Safety and Inspection Service, USDA.

ACTION: Proposed rule: Reopening and extension of comment period.

SUMMARY: The Food Safety and Inspection Service (FSIS) is reopening and extending the comment period for the proposed rulemaking, “Definitions and Standards of Identity or Composition: Elimination of the Pizza Standard,” that closed on January 2, 2002. This action responds to requests from two trade associations and a private company to allow additional time for comment.

DATES: Comments are due April 15, 2002.

ADDRESSES: Send one original and two copies of written comments to FSIS Docket No. 01-018P, Department of Agriculture, Food Safety and Inspection Service, Room 102, 300 12th Street, SW., Washington, DC 20250-3700.

FOR FURTHER INFORMATION CONTACT: Robert C. Post, Ph.D., Director, Labeling and Consumer Protection Staff, Office of Policy, Program Development and Evaluation, Food Safety and Inspection Service, U.S. Department of Agriculture, Washington, DC 20250-3700; (202) 205-0279

SUPPLEMENTARY INFORMATION: On November 2, 2001, FSIS published a proposed rule, “Definitions and Standards of Identity or Composition: Elimination of the Pizza Standard” (66 FR 55601). In that document, the Agency proposed to amend the Federal meat inspection regulations to remove the standards of identity for “pizza with meat” and “pizza with sausage” and provided a 60-day comment period ending on January 2, 2002. FSIS received three comments requesting that the Agency extend the comment period for the proposed rule. Two comments from industry trade associations requested that the Agency extend the comment period for an additional 60 days and one comment from a private company requested that the Agency extend the comment period for an additional 90 days. The commenters requested additional time to get input and feed-back from trade association members who may be affected by the proposed rule and to conduct, gather, and analyze consumer research data. Because the comment period included the holiday season, the requestors asked for additional time to accommodate loss of time during the holidays.

FSIS has considered the requests and will reopen the comment period. However, FSIS is only reopening the comment period for an additional 30 days, which will provide additional time for comments to be made, while ensuring that the rulemaking proceeds in a timely manner. As a result of this reopening and extension, the comment period for the proposed rule will close on April 15, 2002.

Additional Public Notification

Public awareness of all segments of rulemaking and policy development is important. Consequently, in an effort to better ensure that minorities, women, and persons with disabilities are aware of this notice, FSIS will announce the meeting and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Margaret O'K Glavin,
Acting Administrator.

[FR Doc. 02-6125 Filed 3-13-02; 8:45 am]

BILLING CODE 3410-DM-P